DEPARTMENT OF TRANSPORTATION

Federal Aviation Administration

Notice of Intent To Rule on Application To Impose and Use a Passenger Facility Charge (PFC) at Redding Municipal Airport, Redding, CA

AGENCY: Federal Aviation Administration (FAA), DOT.

ACTION: Notice of intent to rule on application.

SUMMARY: The FAA proposes to rule and invites public comment on the application to impose and use a PFC at Redding Municipal Airport under the provisions of the Aviation Safety and Capacity Expansion Act of 1990 (Title IX of the Omnibus Budget Reconciliation Act of 1990) (Public Law 101-508) and Part 158 of the Federal Aviation Regulations (14 CFR Part 158).

DATES: Comments must be received on or before July 29, 2002.

ADDRESSES: Comments on this application may be mailed or delivered in triplicate to the FAA at the following address: Federal Aviation Administration, Airports Division, 15000 Aviation Blvd., Lawndale, CA 90261, or San Francisco Airports District Office, 831 Mitten Road, Room 210, Burlingame, CA 94010-1313. In addition, one copy of any comments submitted to the FAA must be mailed or delivered to Mr. Rod Dinger, Airports Manager, city of Redding, at the following address: 777 Cypress Avenue, Redding, CA 96049-6071. Air carriers and foreign air carriers may submit copies of written comments previously provided in the city of Redding under section 158.23 of Part 158.

FOR FURTHER INFORMATION CONTACT: Marlys Vandervelde, Airports Program Analyst, San Francisco Airports District Office, 831 Mitten Road, Room 210, Burlingame, CA 94010-1303, Telephone: (650) 876-2806. The application may be reviewed in person at this same location.

SUPPLEMENTARY INFORMATION: The FAA proposed to rule and invites public comment on the application to impose and use the revenue from a PFC at Redding Municipal Airport under the provisions of the Aviation Safety and Capacity Expansion Act of 1990 (Title IX of the Omnibus Budget Reconciliation Act of 1990) (Pub. L. 101-508) and Part 158 of the Federal Aviation Regulations (14 CFR Part 158).

On June 18, 2002, the FAA determined that the application to impose and use a PFC submitted by the city of Redding was substantially complete within the requirements of § 158.25 of Part 158. The FAA will approve or disapprove the application, in whole or in part, no later than September 21, 2002.

The following is a brief overview of the impose and use application No. 02-02-C-00-RDD:

Level of proposed PFC: $4.50.

Proposed charge effective date: December 1, 2002.

Proposed charge expiration date: April 1, 2007.

Total estimated PFC revenue: $1,251,567.

Brief description of the proposed projects: Terminal Chairs Replacement, Purchase Used Pavement Sweeper, Emergency Generator for ARFF Living Quarters, Crack and Slurry Seal Airport Access Road and Taxiway, Security Fencing, Land Acquisition (3.4 acre parcel), Rescue and Fire Equipment, American with Disabilities Lift Device, Terminal Building Rehabilitation—Phase II, Land Acquisition (8 acre parcel) Approach Protection, Master Plan Update, Taxiway C, D, and E Rehabilitation and Repair, General Aviation Apron Construction, Reconstruct Runway 12/30, Land Acquisition for Approach Protection, Construct High Speed Taxiway G, Preliminary Design ARFF Station, Emergency Communication System Upgrade, Runway 16/34 Reconstruction Preliminary Design and Pavement Maintenance Program, Runway 16/34 Reconstruction—Phase I, Runway 16/34 Reconstruction—Phase II, and Runway 35 Safety Area Culvert.

Class of classes of air carriers which the public agency has requested not be required to collect PFCs: None.

Any person may inspect the application in person at the FAA office listed above under FOR FURTHER INFORMATION CONTACT and at the FAA Regional Airports Division located at: Federal Aviation Administration, Airports Division, 15000 Aviation Blvd., Lawndale, CA 90261. In addition, any person may, upon request, inspect the application, notice and other documents germane to the application in person at the city of Redding.

Issued in Hawthorne, California, on June 18, 2002.
Herman C. Bliss,
Manager, Airports Division, Western-Pacific Region.

[FR Doc. 02-16390 Filed 6-27-02; 8:45 am]

BILLING CODE 4910-13-M